DEPARTMENT OF HEALTH AND HUMAN SERVICES

Administration for Children and Families

Proposed Information Collection Activity; Formative Data Collections for ACF Program Support (OMB #0970-0531)

AGENCY: Office of Planning, Research, and Evaluation, Administration for Children and Families, HHS.

ACTION: Request for public comment.

SUMMARY: The Administration for Children and Families (ACF) proposes to revise the existing overarching generic clearance for Formative Data Collections for ACF Program Support (OMB #0970-0531) to increase the estimated number of respondents and, therefore, the overall burden estimate.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research and Evaluation, 330 C Street SW, Washington, DC 20201, Attn: OPRE Reports Clearance Officer. All requests emailed or written should be identified by the title of the information collection.

SUPPLEMENTARY INFORMATION: Description: The goals of the generic information collections under this approval are to obtain information about program and grantee processes or needs, and to inform the following types of activities, among others:

• Delivery of targeted assistance and workflows related to program and grantee processes, and the development and refinement of recordkeeping and communication systems.

• Planning for provision of programmatic or evaluation-related training or technical assistance (T/TA).

• Obtaining grantee or other stakeholder input on the development of program performance measures.

• Use of rapid-cycle testing activities to strengthen programs in preparation for summative evaluations.

ACF uses a variety of techniques such as semi-structured discussions, focus groups, surveys, templates, open-ended requests, and telephone or in-person interviews, in order to reach these goals.

Following standard OMB requirements, OPRE will submit a change request for each individual data collection activity under this generic clearance. Each request will include the individual instrument(s), a justification specific to the individual information collection, and any supplementary documents. OMB should review requests within 10 days of submission.

Respondents: Example respondents include: Current or prospective service providers, training or T/TA providers, grantees, contractors, current and potential participants in ACF programs or similar comparison groups, experts in fields pertaining to ACF programs, key stakeholder groups involved in ACF projects and programs, individuals engaged in program re-design or demonstration development for evaluation, state or local government officials, or others involved in or prospectively involved in ACF programs.

Annual Burden Estimates
Instrument | Estimated total number of respondents | Number of responses per respondent | Average burden hours per response | Annual burden hours
Semi-Structured Discussions and Focus Groups | 5,000 | 1 | 2 | 10,000
Interviews | 2,500 | 1 | 1 | 2,500
Questionnaires/Surveys | 2,500 | 1.5 | .5 | 1,875
Templates and Open-ended Requests | 650 | 1 | 10 | 6,500

Estimated Total Annual Burden Hours: 20,875.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act, Sec 1110 [42 U.S.C. 1310].

John M. Sweet Jr.
ACF/OPRE Certifying Officer.

[FR Doc. 2020-22499 Filed 10-9-20; 8:45 am]

BILLING CODE 4184-79-P